DEPARTMENT OF STATE

[Public Notice 8266]

Designation & Determination Pursuant to the Foreign Missions Act; Concerning the Provision of Application Services for Visas, Passports and Similar Documents by Private Entities to Foreign Missions in the United States

Sections 202(a), 203, 204, and 207 of the Foreign Missions Act (codified at 22 U.S.C. 4301 et seq.) (hereinafter “the Act”) authorize the Secretary of State to designate benefits and provide or assist in the grant of benefits for or on behalf of a foreign mission. Therefore, pursuant to such authority, vested in me by Delegation of Authority No. 198, dated September 16, 1992, in order to protect the interests of the United States and to adjust for costs and procedures of obtaining benefits for missions of the United States abroad, I hereby designate the provision of application services with respect to visas, passports and similar documents by private entities on behalf of foreign missions in the United States as a benefit under the Act. For this purpose, such application services include, but are not limited to, appointment management, fee collection, document delivery, and the collection of biometric data from applicants.

Additionally, I hereby determine the provision of such application services by private entities for foreign missions in the United States to be subject to such terms and conditions as may be established by the Department's Office of Foreign Missions and that any state or local laws to the contrary are hereby preempted.

In accordance with § 211(a) of the Act, it shall be unlawful for any person to make available any benefits to a foreign mission that are contrary to the Act. The United States, acting on its own behalf or on behalf of a foreign mission, has standing to bring or intervene in an action to obtain compliance with this chapter, including any action for injunctive or other equitable relief.

Dated: March 18th, 2013.
Patrick F. Kennedy,
Under Secretary for Management.

[FR Doc. 2013-07628 Filed 4-1-13; 8:45 am]

BILLING CODE 4710-43-P